NUCLEAR WASTE TECHNICAL REVIEW BOARD

Board Meeting; Yucca Mountain, NV

Board Meeting: May 13-14, 2003—Washington, DC: The Nuclear Waste Technical Review Board will meet to discuss thermal aspects of the Department of Energy's regulatory design for Yucca Mountain, corrosion research, geophysical and hydrogeologic investigations of the Yucca Mountain site, performance confirmation plans, and a report by the Igneous Consequences Peer Review Panel.

Pursuant to its authority under section 5051 of Public Law 100-203, Nuclear Waste Policy Amendments Act of 1987, on Tuesday, May 13, and on Wednesday morning, May 14, 2003, the U.S. Nuclear Waste Technical Review Board (Board) will meet in Washington, DC, to discuss how heat from the radioactive decay of nuclear waste will affect the U.S. Department of Energy's (DOE) design of a repository for disposing of spent nuclear fuel and high-level radioactive waste at Yucca Mountain in Nevada. Other technical and scientific issues related to the potential performance of such a repository also will be discussed. The meeting is open to the public, and opportunities for public comment will be provided. The Board was created by Congress in the Nuclear Waste Policy Amendments Act of 1987 to evaluate the technical and scientific validity of activities undertaken by the Secretary of Energy related to managing the disposal of the nation's spent nuclear fuel and high-level radioactive waste.

The Board meeting will be held at the Watergate Hotel; 2650 Virginia Avenue, NW.; Washington, DC 20037. The telephone number is 202-965-2300; the fax number is 202-337-7915. The meeting sessions will begin at 8 a.m. on both days.

On Tuesday, the meeting will focus on the DOE's planned repository design and operating mode for Yucca Mountain. The Board has invited the DOE to describe clearly the thermal aspects of the repository design and operating mode, how the thermal aspects of the design and operating mode were analyzed for waste isolation, and the results of the analyses.

The half-day meeting on Wednesday will include discussions of other scientific issues related to a Yucca Mountain repository, including a presentation on corrosion research by a representative of the Center for Nuclear Waste Regulatory Analyses; a presentation on geophysical and hydrogeologic investigations by a representative of Inyo County, California; an update on the Yucca Mountain science and technology program; and a presentation by a representative of the Igneous Consequences Peer Review Panel. The session also will include a discussion of the DOE's performance confirmation plans.

Opportunities for public comment will be provided before adjournment on both days. Those wanting to speak during the public comment periods are encouraged to sign the “Public Comment Register” at the check-in table. A time limit may have to be set on individual remarks, but written comments of any length may be submitted for the record. Interested parties also will have the opportunity to submit questions in writing to the Board. If time permits, the questions will be addressed during the meeting.

A detailed agenda will be available approximately one week before the meeting. Copies of the agenda can be requested by telephone or obtained from the Board's Web site at http://www.nwtrb.gov. Beginning on June 16, 2003, transcripts of the meeting will be available on the Board's Web site, via e-mail, on computer disk, and on a library-loan basis in paper format from Davonya Barnes of the Board staff.

A block of rooms has been reserved at the Watergate Hotel. A meeting rate is available for reservations made by April 21, 2003. When making a reservation, please state that you are attending the Nuclear Waste Technical Review Board meeting. For more information, contact the NWTRB; Karyn Severson, External Affairs; 2300 Clarendon Boulevard, Suite 1300; Arlington, VA 22201-3367; (tel) 703-235-4473; (fax) 703-235-4495.

Dated: April 17, 2003.
William D. Barnard,
Executive Director, Nuclear Waste Technical Review Board.

[FR Doc. 03-9908 Filed 4-21-03; 8:45 am]

BILLING CODE 6820-AM-M